DEPARTMENT OF THE INTERIOR

National Park Service

[NPS-NCR-NACA-12572; PPNCNCROL0, PPMPSPD1Y.M000]

Notice of Meeting, National Capital Memorial Advisory Commission

AGENCY: National Park Service, Interior.

ACTION: Notice of meeting.

SUMMARY: This notice sets forth the date of the National Capital Memorial Advisory Commission.

DATES: The public meeting of the National Capital Memorial Advisory Commission will be held on Tuesday, July 23, 2013, at 1:00 p.m. (EST).

ADDRESSES: The Commission members will meet in the National Building Museum, Room 312, 401 F Street NW., Washington, DC 20001.

FOR FURTHER INFORMATION CONTACT: Mr. Glenn DeMarr by telephone at (202) 619-7025 or by email at glenn_demarr@nps.gov, or Mr. Scott Simmons by telephone at (202) 619-7097 or by email at scott_simmons@nps.gov. Information is also available at the Commission's Web site, http://parkplanning.nps.gov/ncmac.

SUPPLEMENTARY INFORMATION: The Commission was established by Public Law 99-652, the Commemorative Works Act (40 U.S.C. Chapter 89 et seq.), to advise the Secretary of the Interior (the Secretary) and the Administrator, General Services Administration, (the Administrator) on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service

Administrator, General Services Administration

Chairman, National Capital Planning Commission

Chairman, Commission of Fine Arts

Mayor of the District of Columbia

Architect of the Capitol

Chairman, American Battle Monuments Commission

Secretary of Defense

The Commission will consider informational items and memorial legislation introduced in the 113th Congress:

(1) Memorial to President John Adams and his Legacy—further review of Freedom Plaza in Washington, DC, as the preferred site for the memorial (Action Item).

(2) Memorial to Slaves and Free Black Persons who Served in the American Revolution—preliminary discussion of site considerations (Informational Presentation).

(3) Legislation introduced in the 113th Congress (Action Items).

(a) S. 704 and H.R. 620, proposals to authorize a Rachel Carson Trail in the District of Columbia.

(b) H.R. 222, a proposal to authorize the World War I Memorial Foundation to establish a National World War I Memorial on the National Mall in the District of Columbia.

(c) H.R. 318, a proposal to authorize a Wall of Remembrance as part of the Korean War Veterans Memorial.

(d) H. R. 2395, a proposal to amend the Commemorative Works Act to provide for the display of donor contribution acknowledgments at memorials authorized under the Commemorative Works Act.

(4) Other Business.

The meeting will begin at 1:00 p.m. and is open to the public. Persons who wish to file a written statement or testify at the meeting or who want further information concerning the meeting may contact Mr. DeMarr or Mr. Simmons. Before including your address, phone number, email address, or other personal identifying information in your comment, you should be aware that your entire comment—including your personal identifying information—may be made publicly available at any time. While you can ask us in your comment to withhold your personal identifying information from public review, we cannot guarantee that we will be able to do so.

Dated: June 27, 2013.
Stephen E. Whitesell,
Regional Director, National Capital Region.

[FR Doc. 2013-16267 Filed 7-5-13; 8:45 am]

BILLING CODE 4310-DL-P